ENVIRONMENTAL PROTECTION AGENCY

[FRL-7840-5]

EPA Science Advisory Board Staff Office, Request for Nominations of Experts for the Children's Environmental Exposure Research Study (CHEERS) Review Panel

AGENCY: Environmental Protection Agency (EPA).

ACTION: Notice.

SUMMARY: Requesting the nomination of experts for the Science Advisory Board (SAB) CHEERS Review Panel.

DATES: December 17, 2004—Deadline for submitting nomination of experts.

ADDRESSES: U.S. Postal Address—U.S. EPA Science Advisory Board (1400F), EPA, 1200 Pennsylvania Avenue, NW., Washington, DC 20460-0001. For FedEx or courier deliveries: 1025 F Street, NW., Room 3603, Mail Code: 1400F, Washington, DC 20004.

FOR FURTHER INFORMATION CONTACT: Dr. Suhair Shallal, Designated Federal Officer, by telephone/voice mail at (202) 343-9977, by fax at (202) 233-0643; or via e-mail at shallal.suhair@epa.gov. General information concerning the EPA SAB can be found on the EPA SAB Web site at: http://www.epa.gov/sab.

SUPPLEMENTARY INFORMATION: Background: The Science Advisory Board (SAB) was established by 42 U.S.C. 4365 to provide independent scientific and technical advice, consultation, and recommendations to the EPA Administrator on the technical basis for Agency positions and regulations. Pursuant to a request by EPA's Office of Research and Development, the SAB will conduct a review of the study design of the Children's Environmental Exposure Research Study (CHEERS) entitled “Longitudinal Study of Young Children's Exposures in their Homes to Selected Pesticides, Phthalates, Brominated Flame Retardants, and Perfluorinated Chemicals.” The study is designed to fill critical data gaps in understanding children's exposures to pesticides and chemicals that can be found in typical residential environments. It will provide EPA with information to improve both risk assessment and risk management practices that will ultimately be more protective of children's health. In a separate notice, EPA announced the availability of and the opportunity to comment on the above-mentioned document (FRN 68(192):57442-57444; 69(42):10034-10035). The Agency has asked the SAB to comment on: (a) The scientific soundness of the study design (b) the ethical standards of the study design (c) ways of improving the study design.

The SAB will be augmented with members of EPA's Federal Insecticide, Fungicide, and Rodenticide Act Scientific Advisory Panel (FIFRA SAP) and EPA's Children's Health Protection Advisory Council (CHPAC) with additional outside experts to form the SAB CHEERS Review Panel. By including members of three EPA advisory bodies, the SAB, FIFRA SAP and CHPAC, in the review of this document, the requesting office hopes to benefit from their unique expertise in children's exposure and health risk assessment and to receive a peer review report which reflects the views of these bodies on the charge questions in an expedited manner. Therefore, we are only soliciting additional experts in the areas which are not represented in the current membership of SAB, FIFRA SAP or CHPAC. Additional experts are needed in the following areas: ethical standards of research study protocols and bioethics; development of risk communication tools; and interdisciplinary experts with a focus on children's exposure monitoring and assessment.

This panel will comply with the provisions of the Federal Advisory Committee Act (FACA) and all appropriate SAB procedural policies. Upon completion, the panel's report will be submitted to the SAB for final approval for transmittal to the EPA Administrator.

Availability of the Review Materials: The updated EPA study design will be made available by the Office of Research and Development. For questions and information concerning the review materials, please contact Nicolle Tulve, U.S. EPA, 109 T.W. Alexander Drive, Research Triangle Park, NC 27709 (phone: 919-541-1077), or e-mail: tulve.nicolle@epa.gov.

Request for Nominations: The SAB Staff Office is requesting nominations of recognized experts with one or more of the following areas to supplement its available expertise: (a) Bioethics; (b) Interdisciplinary experts with a focus on children's exposure monitoring and assessment; (c) Risk Communication.

Process and Deadline for Submitting Nominations: Any interested person or organization may nominate individuals qualified in the areas of expertise described above to serve on the SAB CHEERS Review Panel. Nominations should be submitted in electronic format through the Form for Nominating Individuals to Panels of the EPA Science Advisory Board which can be accessed through a link on the blue navigational bar on the SAB Web site at: http://www.epa.gov/sab. To be considered, all nominations must include the information requested on that form.

Anyone who is unable to submit nominations using this form and any questions concerning any aspects of the nomination process may contact the DFO, as indicated above in this notice. Nominations should be submitted in time to arrive no later than December 17, 2004. Any questions concerning either this process or any other aspects of this notice should be directed to the DFO. The process for forming a SAB panel is described in the Overview of the Panel Formation Process at the Environmental Protection Agency, Science Advisory Board (EPA-SAB-EC-COM-02-010), on the SAB Web site at: http://www.epa.gov/sab/pdf/ec02010.pdf.

From the nominees identified by respondents to this Federal Register notice (termed the “Widecast”), the SAB Staff Office will develop a smaller subset (known as the “Short List”) for more detailed consideration. The Short List will be posted on the SAB Web Site at: http://www.epa.gov/sab, and will include, for each candidate, the nominee's name and biosketch. Public comments on the Short List will be accepted for 21 calendar days. During this comment period, the public will be requested to provide information, analysis or other documentation on nominees that the SAB Staff Office should consider in evaluating candidates for the Panel.

For the SAB, a balanced panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently on the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Short List candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: November 18, 2004.
Vanessa T. Vu,
Director, EPA Science Advisory Board Staff Office.

[FR Doc. 04-25945 Filed 11-22-04; 8:45 am]

BILLING CODE 6560-50-P